DEPARTMENT OF COMMERCE

National Oceanic and Atmospheric Administration

[I.D. 021902C]

Mid-Atlantic Fishery Management Council; Meetings

AGENCY: National Marine Fisheries Service (NMFS), National Oceanic and Atmospheric Administration (NOAA), Commerce.

ACTION: Notice of public meeting.

SUMMARY: The Mid-Atlantic Fishery Management Council (Council) and its Surfclam and Ocean Quahog Committee with the Industry Advisors, Ecosystem Planning Committee, Protected Resources Committee, Executive Committee, and Law Enforcement Committee will hold a public meeting.

DATES: Monday, March 11 to Thursday, March 14, 2002. Monday, March 11, the Surfclam and Ocean Quahog Committee with the Industry Advisors will meet from 2 until 4 p.m. On Tuesday, March 12, the Ecosystem Planning Committee will meet from 8:30 a.m. until 2 p.m. The Protected Resources Committee will meet from 2 until 4 p.m. On Wednesday, March 13, the Executive Committee will meet from 9 until 10 a.m. The Law Enforcement Committee will meet from 10 a.m. until noon. Council will meet from 1 until 5 p.m. On Thursday, March 14, Council will meet from 8:00 a.m. until noon.

ADDRESSES: This meeting will be held at Gurney’s Inn, 290 Old Montauk Highway, Montauk, NY, telephone 631-668-2345.

Council address: Mid-Atlantic Fishery Management Council, 300 S. New Street, Dover, DE 19904, telephone 302-674-2331.

FOR FURTHER INFORMATION CONTACT: Daniel T. Furlong, Executive Director, Mid-Atlantic Fishery Management Council; telephone: 302-674-2331, ext. 19.

SUPPLEMENTARY INFORMATION: Appropriate Council Committees will: review staff’s recommendation regarding adoption of public hearing document for Amendment 13 to the Surfclam and Ocean Quahog Fishery Management Plan, and approve public hearing document for Amendment 13 adoption by Council; review and discuss recreational and commercial management alternatives, and provide advice to potential research set-aside applicants regarding 2003 cycle; review Bottlenose Dolphin Take Reduction Team meeting results, and address potential impacts on Council fisheries; review issues and actions from February Council Chairmen’s meeting; informally review Fishery Achievement Award nominations, discuss identifying additional violations that warrant permit sanctions (Magnuson-Stevens Act Reauthorization issue), address U.S. Coast Guard crew identification requirements, and address potential of using fishing vessels and crews for homeland security. The Council will: receive and review the Surfclam and Ocean Quahog Committee’s recommendation and approve adoption of public hearing document for Amendment 13; receive and review the Monkfish Committee’s recommendations and approve establishment of goals and objectives for Amendment 2 to the Joint Monkfish FMP; receive and discuss organizational and committee reports including the New England Council's report regarding possible actions on herring, groundfish, monkfish, red crab, scallops, skates, and whiting.

Although non-emergency issues not contained in this agenda may come before the Council for discussion, these issues may not be the subject of formal Council action during this meeting. Council action will be restricted to those issues specifically listed in this notice and any issues arising after publication of this notice that require emergency action under section 305 (c) of the Magnuson-Stevens Act, provided the public has been notified of the Council’s intent to take final actions to address such emergencies.

Special Accommodations

This meeting is physically accessible to people with disabilities. Requests for sign language interpretation or other auxiliary aids should be directed to Joanna Davis at least 5 days prior to the meeting date.

Dated: February 19, 2002.
Richard W. Surdi,
Acting Director, Office of Sustainable Fisheries, National Marine Fisheries Service.

[FR Doc. 02-4279 Filed 2-21-02; 8:45 am]

BILLING CODE 3510-22-S